DEPARTMENT OF THE INTERIOR

National Park Service

[NPS-WASO-CR-NPS0037072; PPWOCRADP3, PCU00RP15.R50000 234P104215 (223); OMB Control Number 1024-0038]

Agency Information Collection Activities; Submission to the Office of Management and Budget for Review and Approval; Procedures for State, Tribal, and Local Government Historic Preservation Programs and Management of Historic Preservation Fund Grants

AGENCY: National Park Service, Interior.

ACTION: Notice of information collection; request for comment.

SUMMARY: In accordance with the Paperwork Reduction Act of 1995, we, the National Park Service (NPS) are proposing to revise an information collection with revisions.

DATES: Interested persons are invited to submit comments on or before March 11, 2024.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 13461 Sunrise Valley Drive, (MS 244) Herndon, VA 20171 (mail); or phadrea_ponds@nps.gov (email). Please reference OMB Control Number 1024-0038 in the subject line of your comments.

FOR FURTHER INFORMATION CONTACT: To request additional information about this ICR, contact Seth Tinkham, Grants Management Specialist, State, Tribal, Local, Plans & Grants Division at seth_tinkham@nps.gov (email); or 202 354-2045 (telephone). Please reference OMB Control Number 1024-0038 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 6, 2023 (88 FR 37093). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This collection is authorized by Section 101(b) of the National Historic Preservation Act, as amended (54 U.S.C. 302301), which specifies the role of States, Tribes, and local governments in the Historic Preservation Program (HPP). This information collection has an impact on State, Tribal, and local governments that wish to participate formally with the National Park Service in the HPP. Information is also requested to meet grant management and monitoring responsibilities for States, Tribes, local government, and other eligible grant recipients under 54 U.S.C. 300101 et seq. and 2 CFR 200.

Each year Congress directs the NPS to use part of the annual appropriation from the Historic Preservation Fund (HPF) for the State grant program and the Tribal grant programs to assist States and Tribes in carrying out their statutory role in the HPP. Through competitive grant programs, Congress also directs NPS to provide financial assistance to a variety of eligible grant recipients to support the broad cultural resource mandates of the National Historic Preservation Act and for other purposes.

We use these information collections to manage our statutory partnerships and for managing grants (usually to those same partners). We are requesting to update the name of this collection from “Procedures for State, Tribal, and Local Government Historic Preservation Programs” to “Procedures for State, Tribal, and Local Government Historic Preservation Programs & Management of Historic Preservation Fund Grants.” This change is to clarify our roles in managing our statutory partnerships and competitive (project) grants and formula grants.

The information from this collection is required to determine if State, Tribal, and local governments meet minimum standards and requirements for participation in the HPP and to meet program-specific requirements as well as government-wide requirements for Federal grant programs. We propose to discontinue the HPF Online Closeout/EOY (State Sources of Non-federal Matching Share Report). The extra reporting effort is redundant and is not useful in evaluating grantee performance or compliance.

The NPS uses the information collected to ensure compliance with the National Historic Preservation Act, as well as government-wide grant requirements issued and implemented through 43 CFR 12 and 2 CFR 200.

Title of Collection: Procedures for State, Tribal, and Local Government Historic Preservation Programs & Management of Historic Preservation Fund Grants.

OMB Control Number: 1024-0038.

Form Number: NPS Forms 10-2060 through 10-2065.

Type of Review: Revision of a currently approved collection.

Respondents/Affected Public: State, Tribal, local governments, and grant applicants or recipients who wish to participate formally in the National Historic Preservation Program and/or who wish to apply for Historic Preservation Fund grant assistance.

Total Estimated Number of Annual Responses: 43,056.

Estimated Completion Time per Response: Varies from 10 minutes to hours to 40 hours depending on activity.

Total Estimated Number of Annual Burden Hours: 40,644.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2024-02584 Filed 2-7-24; 8:45 am]

BILLING CODE 4312-52-P